ENVIRONMENTAL PROTECTION AGENCY

[MN 84; FRL-7838-1]

Notice of Final Determination for Rochester Public Utilities' Silver Lake Plant in Rochester, MN

AGENCY: Environmental Protection Agency (EPA).

ACTION: Notice of final action.

SUMMARY: This notice announces that on August 3, 2004, the Environmental Appeals Board (EAB) of the EPA dismissed a petition for review of a permit issued for the Rochester Public Utilities' Silver Lake Plant (RPU) by the Minnesota Pollution Control Agency (MPCA). The EAB dismissed the petition because it determined that MPCA did not need to require best available control technology (BACT) for the permitted major modification.

DATES: The effective date for the EAB's decision is August 3, 2004. Judicial review of this permit decision, to the extent it is available pursuant to section 307(b)(1) of the Clean Air Act, 42 U.S.C. 7607(b)(1), may be sought by filing a petition for review in the United States Court of Appeals for the Eighth Circuit within 60 days of November 16, 2004.

ADDRESSES: The documents relevant to the above action are available for public inspection during normal business hours at the following address: EPA, Region 5, 77 West Jackson Boulevard (AR-18J), Chicago, Illinois 60604. To arrange viewing of these documents, call Jennifer Darrow at (312) 886-6315.

FOR FURTHER INFORMATION CONTACT: Jennifer Darrow, EPA, Region 5, 77 W. Jackson Boulevard (AR-18J), Chicago, Illinois 60604 or darrow.jennifer@epa.gov. Anyone who wishes to review the EAB decision can obtain it at http://www.epa.gov/eab/disk11/rochester.pdf.

SUPPLEMENTARY INFORMATION: This supplemental information is organized as follows:

A. What Action Is EPA Taking?

B. What Is the Background Information?

C. What Did EPA Determine?

A. What Action Is EPA Taking?

We are notifying the public of a final decision by EPA's EAB on a permit issued by MPCA.

B. What Is The Background Information?

On June 27, 2003, MPCA issued a Prevention of Significant Deterioration (PSD) permit (permit number 10900006-007) to RPU to construct and operate an underground high-pressure steam line from its Silver Lake Plant to the Mayo Clinic's Prospect Utility Plant (Mayo Plant). The permit allows RPU to tap into existing steam lines at the Silver Lake Plant that currently provide steam for four boilers; and to route that steam through a single pipeline to provide steam to the Mayo Plant. This change does not alter the boilers themselves, but results in annual burning of approximately 73,700 additional tons of coal at RPU. MPCA determined that this project would constitute a “major modification” subject to PSD. MPCA did not require the use of BACT, determining that there would not be a modification to an “emissions unit.”

The Minnesota Center for Environmental Advocacy (MCEA) filed a petition for review of this permit with the EAB on July 24, 2003. MCEA argued that the term “emissions unit” encompasses the steam lines as well as the boilers, based on a change to the regulatory definition of “emissions unit” in revisions to the PSD regulations promulgated at 67 FR 80186 (December 31, 2002). MCEA further argued that MPCA erred by not requiring BACT under this revised definition.

C. What Did the EAB Determine?

On August 3, 2004, the EAB dismissed the petition for review on the grounds that the revised PSD regulations did not change the meaning of “emissions unit,” and therefore did not make it necessary for MPCA to require BACT.

Dated: October 26, 2004.
Gary Gulezian,
Acting Regional Administrator, Region 5.

[FR Doc. 04-25399 Filed 11-15-04; 8:45 am]

BILLING CODE 6560-50-P